DEPARTMENT OF TRANSPORTATION

Federal Motor Carrier Safety Administration

[Docket No. FMCSA-2014-0388]

Agency Information Collection Activities; New Information Collection Request: Entry Level Driver Training Survey for Commercial Drivers' Licenses

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The purpose of this ICR is to examine, by a one-time collection of survey data, the relationship of commercial driver license (CDL) entry level driver training (ELDT), as influenced by any subsequent employer training that may have been received, to safety performance of the drivers. The goal of this research is to contribute to other related research being done evaluating the relationship of CDL ELDT to subsequent safety performance of the drivers.

The results of this study, along with others, will provide FMCSA with information to support its consideration of the congressionally mandated requirement to establish enhanced minimum training requirements for CDL entry-level drivers from those currently required at 49 CFR 380.503. There is no national database that contains or collects data on the training received by drivers to enable them to qualify for a CDL.

Recently licensed freight CDL drivers will be surveyed. (This will contain both drivers without hazardous material endorsements and drives with hazardous materials endorsements.) Motorcoach and bus drivers recently observed to have begun driving such vehicles in the most recent three years, as indicated by data in MCMIS, will be surveyed. The goal is to obtain a better understanding of the amount and type of total training they received, and its composition between that received before obtaining the CDL, and that received after obtaining the CDL. Type of training is divided into hours-based versus performance-based. Data on the amount and type of training received will be collected using a one-time survey effort. The data will be analyzed to describe the details of the driver training reported by the survey participants.

Results of the training survey data will be analyzed in relation to the safety performance data of the responding drivers available from two databases: the State-operated Commercial Driver's License Information System (CDLIS) and the Federally-operated Motor Carrier Management Information System (MCMIS).

DATES: We must receive your comments on or before January 6, 2015.

ADDRESSES: You may submit comments identified by Federal Docket Management System (FDMS) Docket Number FMCSA-2014-0388 using any of the following methods:

• Federal eRulemaking Portal: http://www.regulations.gov. Follow the online instructions for submitting comments.

• Fax: 1-202-493-2251.

• Mail: Docket Services; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: David Goettee, Research Division, Office of Analysis, Research and Technology, Federal Motor Carrier Safety Administration, 1200 New Jersey Ave. SE., Washington, DC 20590. Telephone: (202-366-4097); email David.Goettee@dot.gov.

SUPPLEMENTARY INFORMATION: Background: CDL driving is a specialized skill, distinct in many ways and more demanding than operating a smaller vehicle such as an automobile.¹ In the early 1970's the CDL Program (49 CFR Parts 383 and 384) did not exist.² Thus, there were no standardized national requirements that prevented a driver from operating a vehicle heavier than 26,000 lbs. or that carries 16 or more persons without demonstrating minimum knowledge and skills. Neither the Federal government nor any State had CDL ELDT requirements. In States that did have a classified licensing system, only a few required the driver candidate to be skills-tested in a representative commercial vehicle. As a result, many drivers were operating large commercial motor vehicles that they may not have been qualified to drive.³

¹ National Transportation Safety Board. (1986) Safety Recommendations H-86-27 through 34. Washington, DC.

² Federal Motor Carrier Safety Administration. (1996). Purpose and scope of this part and responsibility for compliance and training. 49 CFR, Washington, DC: Government Printing Office.

³ Federal Motor Carrier Safety Administration. Commercial Driver's License Program (CDL/CDLIS). Retrieved from http://www.fmcsa.dot.gov/registration-licensing/cdl/cdl.htm.

Additionally, because there was no tracking of existing licenses, there was no systematic method for preventing drivers from obtaining multiple licenses from multiple States and spreading convictions of any traffic violations over those licenses. That allowed them to avoid having any driver license suspended or revoked in any jurisdiction as a result of convictions for violations of moving traffic laws and thus being reported to the National Driver Registry.

In the early 1980's, before the Commercial Motor Vehicle Safety Act (CMVSA) was enacted, the Federal Highway Administration (FHWA) Office of Motor Carriers (the predecessor to FMCSA) determined that there was a need for technical guidance in the area of truck driver training. At that time, only a few driver-training institutions offered a structured curriculum or a standardized training program for any type of commercial motor vehicle (CMV) driver.

In 1986, 32 States issued some form of a classified driver's license (i.e., a license that makes a distinction between types of vehicles that the holder may operate). Of these 32 States, 12 required State-conducted, behind-the-wheel skills testing of all applicants in a vehicle that represented the type that the driver operated or expected to operate. The other 20 of those 32 States waived testing if the applicants met certain conditions, such as certification of training and testing by their employer; two States recognized training schools. The remaining 18 States and the District of Columbia did not require applicants to demonstrate their driving skills in the types of vehicles they drove or intended to drive, nor did they require certification of training and testing by the employer or a recognized training school. Drivers in those States who obtained a driver license to drive a passenger car were also considered qualified to drive an 18-wheeler or a three-axle intercity bus.

In 1986 Congress passed the Commercial Motor Vehicle Safety Act ⁴ (CMVSA), and subsequent amendments, explicitly to begin addressing these issues. Implementation of the CDL Program and its supporting information system, CDLIS, have been addressing many of these issues.

⁴ U.S. Congress, (1986). Commercial Motor Vehicle Safety Act of 1986. Title XII of Public Law 99-570, Anti-Drug Abuse Act of 1986 49 U.S.C. 31301 et seq., Washington, DC: U.S. Government Printing Office.

The goal of the CDL program is to ensure that drivers of large trucks and commercial passenger vehicles possess the knowledge and skills necessary to obtain a CDL and operate those vehicles on public highways, and that such drivers are uniformly sanctioned for specified convictions. The CMVSA established the CDL Program and directed the Secretary to establish minimum Federal standards that the States must meet when licensing drivers required to have a CDL and sanctions for convictions for specified violations. The CMVSA and implementing regulations apply to virtually anyone who operates a CMV requiring a CDL in interstate or intrastate commerce, including employees of Federal, State, and local governments. There are very limited exceptions.

One of the issues not addressed by the original CMVSA was standardizing the ELDT to be received by those drivers before obtaining a CDL. A 1995 FHWA-sponsored study titled Assessing the Adequacy of Commercial Motor Vehicle Driver Training (the Adequacy Report) concluded, among other things, that effective entry-level driver training needs to include behind-the-wheel instruction on how to operate a heavy vehicle.⁵

⁵ Dueker, R. L. (1995). Assessing the Adequacy of Commercial Motor Vehicle Driver Training: Final Report (FHWA-MC-96-011). Washington, DC: U.S. DOT FHWA Office of Motor Carriers.

In 2004 FMCSA issued a Final Rule for such CDL ELDT, found at 49 CFR 380.503. The requirements of that rule were estimated to take on average 10 hours of training to accomplish. However, the rule was challenged; the court determined FMCSA needed to give more attention to its previous research in establishing meaningful minimum CDL training standards, in particular with regard to behind-the-wheel training requirements. The court left the rule in effect but remanded it to FMCSA for further action. In 2007 FMCSA issued a follow-on Notice of Proposed Rule Making (NPRM), proposing revised ELDT standards for CDL drivers.

The 2012 Moving Ahead for Progress in the 21st Century (MAP-21) requirement expanded the scope of the needed rule. In January and March 2013, FMCSA held public listening sessions to obtain additional input. In December 2012, FMCSA tasked its Motor Carrier Safety Advisory Committee (MCSAC) with developing training recommendations; these were delivered in June 2013. In September 2013, FMCSA withdrew the 2007 NPRM in order to develop a new proposed rule responsive to the 2007 docket comments, the MAP-21-directives, input from the listening sessions, the MCSAC recommendations, and several research projects under way (including this survey). In March 2014, it was announced that a negotiated rulemaking was being considered to facilitate the rulemaking process. On August 19, 2014, the agency announced initiation of the process with the contracted convener (79 FR 49044).

Title: Entry Level Driver Training Survey for Commercial Drivers' Licenses

OMB Control Number: 2126-00XX.

Type of Request: New information collection.

Respondents: Entry-level interstate ⁶ freight and bus/motorcoach drivers. The goal is to understand what entry-level training general freight drivers without endorsements received to obtain their CDLs, and what additional training the hazmat freight (H—non-tanker, X—tanker endorsements) and bus/motorcoach drivers (P endorsement) received to obtain the required endorsement(s). Respondents will therefore be from one of two groups. The first group is CDL drivers newly licensed within the past three years (for freight—non-hazmat and hazmat). The second group is drivers first observed operating a motorcoach or bus as demonstrated by MCMIS data within the last three years, regardless of when they received their CDL. The criteria for selection of this second group is different because such drivers could have obtained their CDL in the past, but only recently obtained training and began driving bus/motorcoaches. In order to have more safety performance data available, all drivers must be driving for a carrier authorized to operate interstate. To avoid specific bias caused by a higher than usual inspection rate at the border for international drivers, the carriers must operate solely in the United States.⁷

⁶ Intrastate drivers do not cross jurisdictions, and often do not operate on interstate highways. Therefore, they tend toward having minimal number of inspections and traffic citations from either a MCSAP or non-MCSAP officers. This lack of safety performance data would make it harder to evaluate any relationship between their training and early subsequent safety performance. Therefore, due to this lower availability of safety performance data, intrastate drivers are not included in the target population.

⁷ Drivers who cross the Canadian and Mexican borders have a high number of inspections at the border and would bias the sample.

Recent entry-level freight CMV drivers for purposes of this survey are defined as those who received their initial commercial license within the past three years. This will be verified by examining the date the CDL index record was added to the CDLIS index. The drivers also must have received an inspection within the past 12 months. This is to verify they were recently, and thus may still be, driving a CMV for a living. (Previous survey research from CDL drivers, found while the response rate by CDL drivers was quite low, drivers who were currently driving were more likely to respond.) Those drivers who also have an H or X endorsement will automatically be routed to additional questions regarding training for those endorsements.

Recent entry-level Bus/Motorcoach (P) CMV drivers are defined as having had an inspection or crash recorded in MCMIS in the past three years while driving a bus or motorcoach vehicle.⁸ (As noted above, entry level bus/motorcoach drivers are defined differently from the freight drivers because drivers can enter the profession of bus/motorcoach driving many years after obtaining their CDL.)

⁸ Neither CDLIS nor MCMIS contains the date when an endorsement was earned. Therefore, this research assumes that when a driver has their first inspection operating a motor vehicle requiring a P endorsement, it is more likely they recently completed training, likely from the employer, to operate that type vehicle.

Estimated Number of Invitees: 82,207 drivers will be invited to participate in the survey.

Estimated Number of Respondents: 7,399.

Estimated Time Per Response: Between 12 and 21 minutes per response, primarily via online technology to a secure Web site for completing only one survey instrument by the invited drivers. The necessary login information will be provided in their solicitation letter. The length of time required depends on which survey instrument applies to that type of driver (see detailed calculation below.) The average is 15.4 minutes because of the small number of drivers with H, X or P endorsements that will be included in the invited sample.

Expiration Date: N/A. This is a new ICR for a one-time survey.

Frequency of Response: Once per respondent.

Estimated Annual Burden Hours: 1903 hours [6620 general freight survey responses × 15 minutes/60 minutes = 1655; 498 hazmat endorsement freight survey responses × 21 minutes/60 minutes = 174.3; 109 bus survey responses × 12 minutes/60 minutes = 21.8; 172 motorcoach survey responses × 18 minutes/60 minutes = 51.6; total estimated burden thus is 1902.7, rounded to 1903 hours].

Form(s): MCSA-5890, “Entry-Level CMV CDL Truck Driver Training Survey,” MCSA-5891, “Entry-Level CMV CDL Bus Driver Training Survey,” and MCSA-5892, “Entry-Level CMV CDL Motorcoach Driver Training Survey.”

Analysis

This study will obtain safety performance data from both MCMIS and CDLIS to analyze the safety performance in relation to the amount and type of training received by recently licensed CDL drivers who chose to respond to this survey.

FMCSA maintains the MCMIS, which contains violations of Federal Motor Carrier Safety Regulations (FMCSRs) found during roadside inspections (including driver out-of-service orders) and crash data submitted by States supported by Motor Carrier Safety Assistance Program (MCSAP) funding. CDLIS Index data are maintained by the American Association of Motor Vehicle Administrators (AAMVA). The licensing States maintain the detailed CDLIS driver records that contain convictions on State and local traffic infractions, suspensions, and revocations.

This study will ensure confidentiality regarding the identity and responses of the participating drivers. Only summarized data will be published. Results of this study will provide FMCSA with information to support its considerations of establishing minimum entry-level training requirements for CDL drivers.

Public Comments Invited: On whether the proposed collection of information is necessary for the proper performance of the functions of the Department, including whether the information will have practical utility; the accuracy of the Department's estimates of the burden of the proposed information collection; ways to enhance quality, utility, and clarity of the information to be collected; and ways to minimize the burden of the collection of information on respondents, including the use of automated collection techniques or other forms of information technology.

Issued under the authority of 49 CFR 1.87 on: October 31, 2014.
G. Kelly Regal,
Associate Administrator for Office of Research and Information Technology and Chief Information Officer.

[FR Doc. 2014-26563 Filed 11-6-14; 8:45 am]

BILLING CODE 4910-EX-P